DEPARTMENT OF ENERGY

Federal Energy Regulatory Commission

[Docket Nos. RP02-35-000 and RP00-15-004]

Dominion Transmission, Inc.; Notice of Tariff Filing

November 6, 2001.

Take notice that on October 31, 2001, Dominion Transmission, Inc. (DTI) tendered for filing the following tariff sheets to comply with the requirements of section 5.1 of the “Stipulation and Agreement Amending Rate Case Settlement” filed on October 5, 1999, in Docket Nos. RP97-406, et al., CNG Transmission Corp., 89 FERC 61,304 (1999) (RP00-15 Settlement):

First Revised Sheet No. 1070

Second Revised Sheet No. 1118

DTI requests waiver of the notice requirements to permit an effective date of November 1, 2001, for its proposed tariff sheets.

DTI states that section 5.1 of the RP00-15 Settlement requires DTI to update its list of Account No. 858 transactions contained in section 15.7 of the General Terms and Conditions (“GT&C”) of its FERC Gas Tariff, in the event that DTI enters into a successor transaction with Tennessee Gas Pipeline Company (Tennessee). DTI reports that it has just finalized a new service agreement with Tennessee to succeed the parties' old service agreement effective November 1, 2001. In addition to modifying the list of transactions set forth on GT&C section 15.7, DTI has modified GT&C section 11B.2.B.1, as shown on First Revised Sheet No. 1070, in order to reflect the revised transaction with Tennessee.

DTI states that copies of its letter of transmittal and enclosures have been served upon DTI's customers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-28293 Filed 11-9-01; 8:45 am]

BILLING CODE 6717-01-P